DEPARTMENT OF TRANSPORTATION

Federal Railroad Administration

[Docket No. FRA 2015-0007-N-26]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking an extension of the following currently approved information collection activities. On May 7, 2014, the Secretary of Transportation issued Emergency Order (EO) Docket No. DOT-OST-2014-0067 requiring affected railroad carriers to provide certain information to the State Emergency Response Commissions (SERCs) for each State in which their trains carrying 1 million gallons or more of Bakken crude oil travel. The information collection activities associated with the Secretary's Emergency Order originally received a six-month emergency approval from OMB on May 10, 2014. On July 10, 2015, OMB again approved the information collection activities associated with the Secretary's Emergency Order until March 31, 2016. FRA is now requesting to continue these information collection activities until the Pipeline and Hazardous Materials Safety Administration (PHMSA) finalizes the Oil Spill Response Proposed Rule that it is currently working on and that will codify the requirements of the Secretary's Emergency Order. The Secretary's EO remains in full force and effect until that happens. FRA also hereby announces that it is seeking renewal of the additional currently approved information collection activities described below for the maximum time period (3 years). Before submitting these information collection requirements for clearance by the Office of Management and Budget (OMB), FRA is soliciting public comment on specific aspects of the activities identified below.

DATES: Comments must be received no later than December 18, 2015.

ADDRESSES: Submit written comments on any or all of the following proposed activities by mail to either: Mr. Robert Brogan, Information Clearance Officer, Office of Safety, Regulatory Safety Analysis Division, RRS-21, Federal Railroad Administration, 1200 New Jersey Ave. SE., Mail Stop 17, Washington, DC 20590, or Ms. Kimberly Toone, Information Clearance Officer, Office of Information Technology, RAD-20, Federal Railroad Administration, 1200 New Jersey Ave. SE., Mail Stop 35, Washington, DC 20590. Commenters requesting FRA to acknowledge receipt of their respective comments must include a self-addressed stamped postcard stating, “Comments on OMB control number 2130 -___.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Clearance Officer, Office of Safety, Regulatory Safety Analysis Division, RRS-21, Federal Railroad Administration, 1200 New Jersey Ave. SE., Mail Stop 17, Washington, DC 20590 (telephone: (202) 493-6292) or Ms. Kimberly Toone, Information Clearance Officer, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summaries of proposed information collection activities regarding: (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of three currently approved information collection requests that FRA will submit for clearance by OMB as required under the PRA:

Title: Secretary of Transportation Emergency Order Docket No. DOT-OST-2014-0067.

OMB Control Number: 2130-0604.

Abstract: As noted in the summary above, on May 7, 2014, the Secretary of Transportation issued Emergency Order (EO) Docket No. DOT-OST-2014-0067 requiring affected railroad carriers to provide certain information to the State Emergency Response Commissions (SERCs) for each State in which their trains carrying 1 million gallons or more of Bakken crude oil travel. This EO is available through the Department's public docket system at www.regulations.gov, under Docket No. DOT-OST-2014-0067. The EO took effect immediately upon issuance, although affected railroads were permitted 30 days to provide the required information to the SERCs. The EO is the Department's direct and proactive response to a recent series of train accidents involving the transportation of petroleum crude oil, a hazardous material the transportation of which is regulated by the Department. The most recent accident occurred on April 30, 2014, when a train transporting petroleum crude oil derailed in Lynchburg, Virginia and released approximately 30,000 gallons of its contents into the James River. Further, the EO explains that, with the rising demand for rail transportation of petroleum crude oil throughout the United States, the risk of rail incidents has increased commensurate with the increase in the volume of the material shipped and that there have been several significant derailments in both the U.S. and Canada over the last several months causing deaths and property and environmental damage that involved petroleum crude oil. DOT emergency orders are rare and the EO itself describes the most recent accidents and circumstances leading the agency to issue the EO. The collection of information included under this EO is aimed at ensuring that railroads that transport in a single train a large quantity of petroleum crude oil (1 million gallons or more), particularly crude oil from the Bakken shale formation in the Williston Basin, provide certain information to the relevant SERCs in each State in which the railroad operates such trains. Ensuring that railroads provide this information to SERCs is critical to ensuring that local and State emergency responders are aware of the large quantities of crude oil that are being transported through their jurisdictions and are prepared to respond to accidents involving such trains should they occur.

Form Number(s): N/A.

Affected Public: Businesses.

Frequency of Submission: One-time; on occasion.

Respondent Universe: 47 Railroad Carriers; 50 State Emergency Response Commissions (SERCs).

Reporting Burden:

Emergency order item No. | Respondent universe | Total annual responses | Average time per response | Total annual burden hours
(1) RR Notification to SERCs | 47 railroads | 120 written notifications | 30 hours | 3,600
(2) Updated RR Notification to SERCs | 47 railroads | 25 updated written notifications | 4 hours | 100
(3) Notification Copies to FRA | 47 railroads | 20 notification copies | 10 minutes | 5
(4) Requests to RRs by SERCs for Information from Local Emergency Response Agencies Regarding the Volume and Frequency of Train Traffic Implicated by this Emergency Order within that Agency's Jurisdiction and RR Responses | 47 railroads | 30 informational assistance requests + 30 informational responses | 30 minutes | 60
(5) Petitions to the Secretary/FRA Administrator for Relief from This Emergency Order | 47 railroads | 4 relief petitions | 2 hours | 8

Total Estimated Responses: 229.

Total Estimated Annual Burden: 3,773 hours.

Status: Extension of a currently approved information collection.

Title: Ballast Defects and Conditions-Importance of Identification and Repair in Preventing Development of Unsafe Combinations of Track Conditions.

OMB Control Number: 2130-0614.

Abstract: FRA issued Safety Advisory 2015-04 on August 20, 2015, to emphasize the importance of timely repairing ballast defects and conditions on main tracks. FRA published Safety Advisory 2015-04 in the Federal Register on August 26, 2015. See 80 FR 51868. In the Safety Advisory, FRA noted that ballast defects and ballast conditions that are not repaired in a timely manner can lead to future defects. FRA believes it is important for track inspectors to be aware that ballast defects and conditions can cause track components to deteriorate rapidly and compromise the stability of the track structure, and that inspectors are trained to identify and repair ballast defects and conditions. This safety advisory recommends that track owners and railroads: (1) Assess current engineering instructions on ballast safety and update them to provide specific guidance to track inspectors (designated personnel that are qualified to inspect and repair track) on how to identify and initiate remedial action under 49 CFR 213.233(d) for ballast defects and conditions, as well as on the appropriate remedial action to implement, particularly in areas with one or more additional track conditions; (2) train track inspectors on the updated engineering instructions and this safety advisory to ensure they understand how to identify and initiate remedial action for ballast defects and conditions in a timely manner, and understand the importance of such remedial action in preventing the development of unsafe combinations of track conditions; and (3) ensure that supervisors provide adequate oversight of track inspectors to achieve identification and remediation of ballast defects and other track conditions.

FRA is seeking regular Clearance of this information collection request that was previously approved under Emergency Processing procedures on September 9, 2015.

Form Number(s): N/A.

Affected Public: Businesses.

Frequency of Submission: One-time; on occasion.

Respondent Universe: 754 Track owners/Railroads.

Reporting Burden:

Safety advisory 2015-04 | Respondent universe | Total annual responses | Average time per response | Total annual burden hours
(1) RR Assessment and Update of Engineering Instructions to provide Guidance to Its Track Inspectors on How to Identify and Repair Ballast Defects and Other Ballast Conditions | 754 Railroads | 100 assessments + 100 engineering instruction updates | 60 minutes | 200
(2) RR Training of Its Track Inspectors on Updated Engineering Instructions and FRA Safety Advisory 2015-04 | 754 Railroads | 10,000 trained track inspectors/records | 60 minutes | 10,000

Form Number(s): N/A.

Respondent Universe: 754 Railroads.

Frequency of Submission: One-time; on occasion.

Total Estimated Annual Responses: 10,200.

Total Estimated Annual Burden: 10,200 hours.

Status: Regular Review.

Title: Disqualification Proceedings.

OMB Control Number: 2130-0529.

Abstract: Under 49 U.S.C. 20111(c), FRA is authorized to issue orders disqualifying railroad employees, including supervisors, managers, and other agents, from performing safety-sensitive service in the rail industry for violations of safety rules, regulations, standards, orders, or laws evidencing unfitness. FRA's regulations, 49 CFR part 209, subpart D, implement the statutory provision by requiring (i) a railroad employing or formerly employing a disqualified individual to disclose the terms and conditions of a disqualification order to the individual's new or prospective employing railroad; (ii) a railroad considering employing an individual in a safety-sensitive position to ask the individual's previous employing railroad whether the individual is currently serving under a disqualification order; and (iii) a disqualified individual to inform his new or prospective employer of the disqualification order and provide a copy of the same. Additionally, the regulations prohibit a railroad from employing a person serving under a disqualification order to work in a safety-sensitive position. This information serves to inform a railroad whether an employee or prospective employee is currently disqualified from performing safety-sensitive service based on the issuance of a disqualification order by FRA. Furthermore, it prevents an individual currently serving under a disqualification order from retaining and obtaining employment in a safety-sensitive position in the rail industry.

Form Number(s): N/A.

Affected Public: Railroad Employees.

Respondent Universe: 40,000 Locomotive Engineers.

Total Responses: 3.

Estimated Total Annual Burden: 5 hours.

Status: Extension of a currently approved collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on October 13, 2015.
Corey Hill,
Acting Executive Director.

[FR Doc. 2015-26409 Filed 10-16-15; 8:45 am]

BILLING CODE 4910-06-P